DEPARTMENT OF HEALTH AND HUMAN SERVICES

Food and Drug Administration

[Docket Nos. FDA-2018-N-2027; FDA-2012-N-0961; FDA-2018-N-3037; FDA-2014-N-1721; FDA-2005-N-0101; FDA-2012-N-0294; FDA-2011-N-0449; FDA-2018-N-3404; FDA-2018-N-3552; and FDA-2018-N-2969]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Ila S. Mizrachi, Office of Operations, Food and Drug Administration, Three White Flint North, 10A-12M, 11601 Landsdown St., North Bethesda, MD 20852, 301-796-7726, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at http://www.reginfo.gov/public/do/PRAMain. An Agency may not conduct or sponsor, and a person is not required to respond to, a collection of information unless it displays a currently valid OMB control number.

Table 1—List of Information Collections Approved By OMB
Title of collection | OMB control No. | Date approval expires
Survey of Current Manufacturing Practices for the Cosmetic Industry | 0910-0867 | 3/31/2020
Environmental Impact Considerations | 0910-0322 | 2/28/2022
Generic Clearance for Quantitative Testing of the Development of Food and Drug Administration | 0910-0865 | 2/28/2022
Investigational New Drug Regulations | 0910-0014 | 3/31/2022
Prescription Drug User Fee Program | 0910-0297 | 3/31/2022
Food Additives, Food Contact Substance Notification System | 0910-0495 | 3/31/2022
SPF Labeling and Testing Requirements for OTC Sunscreen Products | 0910-0717 | 3/31/2022
Generic Drug User Fee Program | 0910-0727 | 3/31/2022
Experimental Study of Cigarette Warnings | 0910-0866 | 3/31/2022
Assessment of Combination Product Review Practices | 0910-0868 | 3/31/2022

Dated: April 24, 2019.
Lowell J. Schiller,
Principal Associate Commissioner for Policy.

[FR Doc. 2019-08607 Filed 4-26-19; 8:45 am]

BILLING CODE 4164-01-P